DEPARTMENT OF AGRICULTURE

Submission for OMB Review; Comment Request

March 24, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if they are received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: The Integrity Program (TIP) Data Collection.

OMB Control Number: 0584-0401.

Summary of Collection: This is a request for extension, without revision, to an existing collection. The Women, Infant, and Children (WIC) Program regulations at 7 CFR 246.12(j)(5), requires State agencies to report annually on their vendor monitoring efforts. The data collected is used by States agencies as a management tool and at the national level to provide Congress, senior FNS officials, as well as the general public, assurances that every reasonable effort is being made to ensure integrity in the WIC Program.

Need and Use of the Information: The Food and Nutrition Service (FNS) will collect information using forms FNS 698, Profile of Integrity Practices and Procedures; FNS 699, the Integrity Profile Report Form; and FNS 700, TIP Data Entry Form. The collected information from the forms will be analyzed and a report is prepared by FNS annually that (1) assesses State agency progress in eliminating abusive vendors, (2) assesses the level of activity that is being directed to ensure program integrity, and (3) analyzes trends over a 5-year period. The information is used at the national level in formulating program policy and regulations. At the FNS regional office level, the data is reviewed to identify possible vendor management deficiencies so that technical assistance can be provided to States, as needed. Without the information, FNS would not have timely and accurate data needed to identify and correct State agency vendor management and monitoring deficiencies and to implement corrective actions.

Description of Respondents: State, Local or Tribal Government.

Number of Respondents: 90.

Frequency of Responses: Reporting: Annually.

Total Burden Hours: 38.

Ruth Brown,
Departmental Information Collection Clearance Officer.

[FR Doc. 2015-07120 Filed 3-27-15; 8:45 am]

BILLING CODE 3410-30-P